DEPARTMENT OF THE INTERIOR

National Park Service

[NPS-WASO-NAGPRA-NPS0039155; PPWOCRADN0-PCU00RP14.R50000]

Notice of Inventory Completion: The Kikuchi Center at Kaua`i Community College, Līhu`e, HI

AGENCY: National Park Service, Interior.

ACTION: Notice.

SUMMARY: In accordance with the Native American Graves Protection and Repatriation Act (NAGPRA), the Kikuchi Center at Kaua`i Community College has completed an inventory of human remains and associated funerary objects and has determined that there is a cultural affiliation between the human remains and associated funerary objects and Indian Tribes or Native Hawaiian organizations in this notice.

DATES: Repatriation of the human remains and associated funerary objects in this notice may occur on or after January 6, 2025.

ADDRESSES: Jason Ford, The Kikuchi Center at Kaua`i Community College, 3-1901 Kaumuali`i Highway, Līhu`e, HI 96766, telephone (808) 245-8236, email jford9@hawaii.edu.

SUPPLEMENTARY INFORMATION: This notice is published as part of the National Park Service's administrative responsibilities under NAGPRA. The determinations in this notice are the sole responsibility of the Kikuchi Center at Kaua`i Community College, and additional information on the determinations in this notice, including the results of consultation, can be found in its inventory or related records. The National Park Service is not responsible for the determinations in this notice.

Abstract of Information Available

Human remains representing, at least, one individual have been identified. The one associated funerary object is one bone fish hook. Item: Iwi Kupuna (ancestral remains) and associated funerary objects. Site Name: ARCH 14-6, Kama`ole, Kula, Maui. Geographical Location: Kama`ole, Kula, Maui. Collection History: The Kikuchi Center is an archive curating the work of Dr. William Kikuchi. Dr. Kikuchi co-founded the Archaeology Research Center of Hawai`i, ARCH, with Francis Ching, Jr. He inherited a collection of ARCH project materials, including ARCH project 14-6. This project was an archaeological surface survey for the Pi`ilani Highway at Kama`ole, Kula, Maui. ARCH 14-6 materials were excavated in 1976 and the founding of the Kikuchi Center and processing of these materials began in September 2022. In March of 2024, an osteologist analyzed the bones in the collection and positively identified the bones presented in this notice as human. They are associated with Native Hawaiian sites and cultural layers, and were found in a cave. Modified bones and bone fragments too small to be identified are also included in this notice due to their association with positively identified iwi kupuna and location within the cave site.

Cultural Affiliation

Based on the information available and the results of consultation, cultural affiliation is reasonably identified by the geographical location or acquisition history of the human remains and associated funerary objects described in this notice.

Determinations

The Kikuchi Center at Kaua`i Community College has determined that:

• The human remains described in this notice represent the physical remains of one individual of Native Hawaiian ancestry.

• The one object described in this notice is reasonably believed to have been placed intentionally with or near individual human remains at the time of death or later as part of the death rite or ceremony.

• There is a connection between the human remains and associated funerary objects described in this notice and Hui Iwi Kuamo'o.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 6, 2025. If competing requests for repatriation are received, the Kikuchi Center at Kaua`i Community College must determine the most appropriate requestor prior to repatriation. Requests for joint repatriation of the human remains and associated funerary objects are considered a single request and not competing requests. The Kikuchi Center at Kaua`i Community College is responsible for sending a copy of this notice to the Indian Tribes and Native Hawaiian organizations identified in this notice.

Authority: Native American Graves Protection and Repatriation Act, 25 U.S.C. 3003, and the implementing regulations, 43 CFR 10.10.

Dated: November 22, 2024.
Melanie O'Brien,
Manager, National NAGPRA Program.

[FR Doc. 2024-28491 Filed 12-4-24; 8:45 am]

BILLING CODE 4312-52-P